DEPARTMENT OF TRANSPORTATION

Pipeline and Hazardous Materials Safety Administration

[Docket No. PHMSA-2003-15864]

Request for Public Comment and Office of Management and Budget Approval for a New Information Collection

AGENCY: Pipeline and Hazardous Materials Safety Administration (PHMSA), U.S. Department of Transportation (DOT).

ACTION: Notice and request for comments.

SUMMARY: In compliance with the Paperwork Reduction Act of 1995 (PRA), this notice announces that PHMSA has forwarded an Information Collection Request to the Office of Management and Budget (OMB) for a new information collection. This information collection is a survey of hazardous liquid operators to obtain information on unregulated low-stress hazardous liquid pipeline characteristics. The purpose of this notice is to invite the public to submit comments on the request to OMB.

DATES: Submit comments on or before October 9, 2007.

ADDRESSES: Send comments directly to the Office of Management and Budget, Office of Information and Regulatory Affairs, Attn: Desk Officer for the Department of Transportation, 725 17th Street, NW., Washington, DC 20503.

FOR FURTHER INFORMATION CONTACT: Lane Miller at (405) 954-4969, or by e-mail at Lane.Miller@dot.gov.

SUPPLEMENTARY INFORMATION: The Pipeline Inspection, Protection, Enforcement, and Safety Act of 2006 (PIPES Act) enacted into law on December 29, 2006, reauthorizes PHMSA-administered pipeline safety programs for fiscal years 2007 through 2010. Section 4 of the PIPES Act requires that PHMSA issue regulations by December 31, 2007, subjecting all low-stress hazardous liquid pipelines to the same standards and regulations as other hazardous liquid pipelines. PHMSA currently exempts low stress pipelines from regulations except for those in populated areas and crossing navigable waterways. On May 18, 2007, PHMSA published a supplementary notice of proposed rulemaking proposing to apply all Federal Hazardous liquid pipeline safety regulations to a specific set of these remaining low rural low-stress lines (72 FR 28008).

Low-stress pipelines are pipelines operating at 20 percent or less of the specified minimum yield strength of the line pipe. PHMSA does not have data on the total extent of currently unregulated hazardous liquid low-stress pipelines in the United States. To address this gap in the data and to obtain a more accurate understanding of the unregulated hazardous liquid low-stress pipelines, PHMSA is requesting OMB approval to conduct a one-time information collection survey. To the extent possible, all operators of hazardous liquid pipelines will be surveyed about low stress mileage (including interplant pipeline mileage), diameter, pipeline material, products transported, and location.

In order to reach as many operators as possible, the survey will be delivered electronically to each of the companies currently operating regulated hazardous liquid pipelines. PHMSA will also attempt to reach companies that own and/or operate currently unregulated pipelines exclusively by working with industry associations to announce and distribute the survey via e-mail newsletters to members. Respondents will be able to print an electronic version of the survey and mail a hard copy, or complete the survey on-line and e-mail it. Participation in the survey is optional.

Pursuant to 44 U.S.C. 3506(c)(2)(A) of the PRA, PHMSA is required to obtain OMB approval for information collections. The term “information collection” includes all work related to preparing and disseminating information related to this proposed information collection including: Completing paperwork, gathering information, and conducting telephone calls. PHMSA published a notice providing a 60-day period for comments on the proposed information collection in the Federal Register on June 14, 2007 (72 FR 32941), and received no comments. PHMSA is now providing an additional 30-day comment period and inviting comments on whether the proposed information collection is necessary for DOT's proper performance. The comments may include (1) whether the information will have practical utility; (2) the accuracy of DOT's estimate of the burden of the proposed information collection; (3) ways to enhance the quality, utility, and clarity of the information collection; and (4) ways to minimize the burden of the information collection on respondents, including the use of automated collection techniques or other forms of information technology.

Type of Information Collection Request: New Collection.

Respondents: 158.

Frequency: This is a one-time survey.

Estimated Average Burden per Response: 16 hours.

Estimated Total Annual Burden on Respondents: 2,528 hours.

Dated: August 31, 2007.
Florence L. Hamn,
Director of Regulations.

[FR Doc. 07-4362 Filed 9-6-07; 8:45 am]

BILLING CODE 4910-60-M